DEPARTMENT OF HEALTH AND HUMAN SERVICES

Food and Drug Administration

[Docket Nos. FDA-2005-C-0245, FDA-2005-C-0416, and FDA-2005-C-0504] (formerly Docket Nos. 2005C-0302, 2005C-0303, and 2005C-0304)

CIBA Vision Corp.; Withdrawal of Color Additive Petitions

AGENCY: Food and Drug Administration, HHS.

ACTION: Notice.

SUMMARY: The Food and Drug Administration (FDA) is announcing the withdrawal, without prejudice to a future filing, of three color additive petitions (CAP 5C0278, CAP 5C0279, and CAP 5C0280) proposing that the color additive regulations be amended to provide for the safe use of Color Index (C.I.) Pigment Violet 19, C.I. Pigment Yellow 154, and C.I. Pigment Red 122 as color additives in contact lenses.

FOR FURTHER INFORMATION CONTACT: Celeste Johnston, Center for Food Safety and Applied Nutrition (HFS-265), Food and Drug Administration, 5100 Paint Branch Pkwy., College Park, MD 20740-3835, 301-436-1282.

SUPPLEMENTARY INFORMATION: In a notice published in the Federal Register of August 17, 2005 (70 FR 48426), FDA announced that three color additive petitions had been filed by CIBA Vision Corp., 11460 Johns Creek Pkwy., Duluth, GA 30097-1556. The petitions proposed to amend the color additive regulations in Part 73 Listing of Color Additives Exempt from Certification (21 CFR part 73) to provide for the safe use of C.I. Pigment Violet 19 (CAP 5C0278, Docket No. FDA-2005-C-0245), C.I. Pigment Yellow 154 (CAP 5C0279, Docket No. FDA-2005-C-0416), and C.I. Pigment Red 122 (CAP 5C0280, Docket No. FDA-2005-C-0504) as color additives in contact lenses. CIBA Vision Corp. has now withdrawn the petitions without prejudice to a future filing (21 CFR 71.6(c)(2)).

Dated: February 18, 2010.
Mitchell A. Cheeseman,
Acting Director, Office of Food Additive Safety, Center for Food Safety and Applied Nutrition.

[FR Doc. 2010-4972 Filed 3-8-10; 8:45 am]

BILLING CODE 4160-01-S